DEPARTMENT OF AGRICULTURE

Forest Service

Information Collection; Arctic National Refuge Recreation Visitor Study

AGENCY: Forest Service, USDA.

ACTION: Notice; request for comment.

SUMMARY: In accordance with the Paperwork Reduction Act of 1995, the Forest Service is seeking comments from all interested individuals and organizations on the new information collection, Arctic National Wildlife Refuge Recreation Visitor Study—2008.

DATES: Comments must be received in writing on or before November 30, 2007 to be assured of consideration. Comments received after that date will be considered to the extent practicable.

ADDRESSES: Comments concerning this notice should be addressed to Alan E. Watson, Aldo Leopold Wilderness Research Institute, USDA Forest Service Rocky Mountain Research Station, 790 E. Beckwith Ave., Missoula, MT 59801.

Comments also may be submitted via facsimile to 406-542-4196 or by e-mail to: awatson@fs.fed.us.

The public may inspect comments received at the Aldo Leopold Wilderness Research Institute, USDA Forest Service Rocky Mountain Station, 790 E. Beckwith Ave., Missoula, MT during normal business hours. Visitors are encouraged to call ahead to 406-542-4197 to facilitate entry to the building.

FOR FURTHER INFORMATION CONTACT: Alan E. Watson, Aldo Leopold Wilderness Research Institute at 406-542-4197. Individuals who use TDD may call the Federal Relay Service (FRS) at 1-800-877-8339, 24 hours a day, every day of the year, including holidays.

SUPPLEMENTARY INFORMATION: Title: Arctic National Wildlife Refuge Recreation Visitor Study—2008.

OMB Number: 0596-NEW.

Type of Request: New.

Abstract: The Aldo Leopold Wilderness Research Institute in Missoula, Montana, works under an interagency agreement with the U.S. Fish & Wildlife Service (Department of the Interior) to provide information to support management planning for public wild lands. Management of specific refuges is directed by laws, policies, and Comprehensive Conservation Plans. The Wilderness Act of 1964 directs the National Wilderness Preservation System be managed to protect natural wilderness conditions and to provide outstanding opportunities for the public to find solitude or primitive and unconfined types of recreational experiences. The Arctic National Wildlife Refuge contains 8,000,000 acres of federally protected wilderness (Molly Beattie Wilderness) and over 11,000,000 acres of land and water that are managed for multiple values (subsistence, wildlife, water quality, scenic values, etc.), and mandated to provide recreation experiences to visitors under a number of laws, including the National Wildlife Refuge System Administration Act, (as amended by the National Wildlife Refuge System Improvement Act), the Refuge Recreation Act, and the Alaska National Interest Lands Conservation Act.

To help meet Federal agencies' mandates related to recreation, scientists at the Aldo Leopold Wilderness Research Institute will periodically monitor and report, to managers and the public, visitor use and user characteristics, and visitor feedback on management actions on federal lands. Agency personnel will use the collected information to ensure that visitors' recreational activities do not harm the natural resources of the refuge and that wilderness-type recreation experiences are protected. The agency intends to record visitor responses in 2008 for comparison to the most recent survey (1977 prior to Refuge status and Wilderness designation), and expand the scope of the survey to include visitor feedback to understand major dimensions of experiences and factors that influence those experiences. Potential influences include encounters with other visitors, subsistence users, researchers, and agency personnel and information sources used to plan the trip. The data from this information collection will be stored at the Aldo Leopold Wilderness Research Institute in Missoula, Montana. Scientists working at the Research Institute will conduct the data analysis.

The U.S. Fish & Wildlife Service will use information from this collection to:

(1) Understand;

a. Individual visitor demographics, frequency of visits, and residence;

b. Visit characteristics, such as whether they are hunting or not, river floating or not, method of access, size of group, and difficulty in finding campsites, evaluations of conditions encountered, and feedback on information available for trip planning;

(2) Gain an understanding of how the agency's management of the Arctic National Wildlife Refuge and other potential facilitating and constraining factors influence a visitor's recreation experience;

(3) Help understand how to educate recreation visitors so they do not leave impacts from their visits, such as damaged vegetation, litter, polluted lakes and streams, and wildlife disturbance while engaging in high quality, safe, responsible recreation visits; and

(4) Provide information that may assist in revision of the Arctic National Wildlife Refuge Comprehensive Conservation Plan.

Respondents will be recreation visitors to the Arctic National Wildlife Refuge. Visitors will be contacted as they enter the Arctic Refuge or upon exit and will be provided with a mail-back postcard that offers them alternative methods of response to the survey: (1) Mail the postage-paid postcard to the Leopold Institute with a name and address in order to receive a mail-back survey, (2) mail the postage paid postcard to the Leopold Institute with an electronic e-mail address to receive an electronic form of the survey, or (3) keep the postcard that contains a web address for on-line completion of the survey. All responses will be voluntary. Data collected in this information collection are not available from other sources and have not been collected since 1977.

This study will only ask recreation visitors (non-local, non-subsistence users) questions about their recreation visit, their personal demographics relevant to education and service provision, and factors that have influenced or are likely to influence their recreation visits. Survey respondents will be told that this information is voluntary, in confidence (their names will not be connected to their responses in any way). The Survey will not include questions related to oil exploration or development within the boundaries of the Refuge.

Estimate of Annual Burden: 20 minutes.

Type of Respondents: Individuals.

Estimated Annual Number of Respondents: 900.

Estimated Annual Number of Responses per Respondent: Once.

Estimated Total Annual Burden on Respondents: 300 hours.

Comment is Invited:

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the additional use of automated, electronic, mechanical, or other technological collection techniques or other forms of information technology.

All comments received in response to this notice, including names and addresses when provided, will be a matter of public record. Comments will be summarized and included in the request for Office of Management and Budget approval.

Dated: September 21, 2007.
Ann M. Bartuska,
Deputy Chief for Research & Development.

[FR Doc. E7-19253 Filed 9-28-07; 8:45 am]

BILLING CODE 3410-11-P